DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U. S. C. chapter 35). To request a copy of these documents, call the SAMHSA Reports Clearance Officer on (240) 276-0361.

Project: GLS State/Tribal Evaluation of the Garrett Lee Smith (GLS) State/Tribal Youth Suicide Prevention and Early Intervention Program Reinstatement

The Substance Abuse and Mental Health Services Administration (SAMHSA) Center for Mental Health Services (CMHS) is requesting clearance for the reinstatement of data collection associated with the previously approved evaluation of the Garrett Lee Smith (GLS) Youth Suicide Prevention and Early Intervention Program (GLS Suicide Prevention Program). The GLS State/Tribal Evaluation is a proposed redesign of the previous evaluation (OMB No. 0930-0286; Expiration, March 31, 2019) that builds on prior published GLS evaluation proximal and distal outcomes and aggregate findings from program activities (e.g., Condron, Godoy-Garraza, Walrath, McKeon, & Heilbron, 2014; Walrath, Godoy-Garraza, Reid, Goldston, & McKeon, 2015; Godoy-Garraza, Walrath, Kuiper, Goldston, & McKeon, 2018; Condron, Godoy-Garraza, Kuiper, Sukumar, Walrath, & McKeon, 2018; Godoy-Garraza, Kuiper, Goldston, McKeon, & Walrath, 2019; Godoy-Garraza, Kuiper, Cross, Hicks, & Walrath, 2020; Goldston & Walrath, 2023). As a result of the vast body of information collected and analyzed through the previous cross-site evaluation, SAMHSA has identified areas for additional investigation and the types of inquiry needed to move the evaluation into its next phase.

The purpose of the GLS State/Tribal Suicide Prevention Program is to facilitate a comprehensive public health approach to prevent suicide. Passed by Congress in 2004, the Garrett Lee Smith Memorial Act (GLSMA) was the first legislation to provide funding for states, tribes, and institutions of higher education to develop, improve, and evaluate early intervention and suicide prevention programs. GLSMA mandates that the effectiveness of the GLS Suicide Prevention Program be evaluated through both cross-site and local evaluation and reported to Congress.

The GLS State/Tribal Evaluation is designed to gather detailed outcome and impact data to provide SAMHSA with the data and information needed to understand what works, why it works, and under what conditions, relative to program activities.

The purpose of the GLS Evaluation is to build the program's knowledge base by expanding on information gathered through the prior evaluation related to the process, products, context, and impacts of the GLS State/Tribal Program.

The GLS Evaluation incorporates three areas of evaluation to provide a robust understanding of the implementation, outcomes, and impacts of the GLS State/Tribal Program. A behavioral health equity and cultural equity lens will be applied to each area of evaluation to ensure a culturally specific understanding of intervention implementation, outcomes, and impacts.

The Implementation Evaluation inventories the array of strategies and services implemented by grantees and answers questions about the extent to which grantees are implementing required and allowed prevention strategies and services, including related settings, populations, and degree of fidelity to their work plan.

The Outcome Evaluation includes three studies related to trainings, youths' experience of services, and the continuity of care for at-risk youths—i.e., the Training Outcomes Study; Youth Experience, Outcomes, and Resiliency Study (Youth Study); and Continuity of Care Study. These studies will provide a deeper examination of the effectiveness of these strategies as they relate to the long-term gains in trainee skills to identify and manage youths at risk for suicide; youths' perspectives, including an assessment of how youths experience services, supports and facets that encourage building resilience, stress tolerance, and self-management skills; and the effectiveness of a continuum of care that connects youths to treatment services and supports, and post-discharge follow-up.

Finally, the Impact Evaluation will combine data from the Implementation and Outcome Evaluations to assess the effectiveness of the GLS State/Tribal Program on decreasing suicide morbidity and mortality. Through implementation of this evaluation design, it will be possible to isolate prevention strategy impacts and explain cross-program impacts on short-term (e.g., change in self-efficacy to identify change in the number of youths identified as at risk) and long-term program outcomes such as suicide attempts and deaths by suicide.

Nine data collection activities compose the GLS Evaluation—4 revised data collection instruments and 5 new data collection instruments.

Instrument Removals

The current GLS Evaluation does not include data collection with campus grantees, so all campus-specific instruments are being removed. Additionally, due to SAMHSA's current research priorities and the fulfillment of previous data collection requirements, 7 previously approved instruments are being revised or removed from the evaluation. These include: Behavioral Health Provider Survey (BHPS), Prevention Strategies Inventory (PSI) Campus, Student Behavioral Health Form (SBHF), Treatment as Prevention (TASP) Campus, Early Identification, Referral, Follow-up, and Treatment Individual Form, Early Identification, Referral, Follow-up, and Treatment Screening Form, Sustainability One-Year Follow-up (SFUP), SFUP Consent-to-Contact, and Training Utilization and Preservation—Survey (TUP-S) Campus.

Instrument Revisions

PSI: the PSI is a web-based survey that captures all state/tribal program prevention strategies and products. Data include strategy types and products distributed, intended audiences or populations of focus, and expenditures across major categories (e.g., outreach and awareness, gatekeeper training, screening programs). Each major strategy includes sub-strategies, enabling grantees to specify and provide details about the sub-strategy, including implementation setting/location, timeframe, and intended audiences or populations of focus. The PSI is completed by grantee staff each quarter. PSI data will inform the Training Outcomes Study and Continuity of Care Study. Compared to the prior version of the PSI, the revised PSI includes all previous strategies and integrates new or revised questions related to the following areas of interest: (1) grantees use of emerging technologies (2) implementation of evidence based practices (EBPs), (3) cultural adaptations and health equity practices, and (4) program sustainability. In addition, we have revised the PSI to optimize the assessment of implementation timeframe and location and the alignment of audiences more precisely with grantee strategies implemented.

TASP: the TASP is a web-based survey collecting aggregate-level training data from all state/tribal grantees. Data include information about the type of training delivered, the number and roles of training participants, and the setting of the training, including ZIP code where the training is held (for use in analysis of GLS program impact). The TASP also assesses intended outcomes, as well as the number of online trainings completed, train-the-trainer events held, and booster trainings that follow the initial training. The TASP also gathers information about the inclusion of behavioral rehearsal or role-play and resources provided at the training as these elements have been found to improve retention of knowledge and skills post-training. Additionally, the TASP collects information about resources or materials provided to trainees (e.g., mobile or online tools or applications for suicide prevention, fact or resource sheets, and wallet card information) to improve understanding of how skills can be maintained over time with materials provided at trainings (Cross et al., 2011). A TASP is completed by grantee program staff within 2 weeks of each in-person training activity and quarterly for virtual training activities. The revised TASP includes more refined assessment of training format including (1) in person; (2) virtual (facilitated on a specific date) and (3) virtual (self-directed; trainee completes training at own pace) and revisions to align with updated Government Performance and Results Act (GPRA) indicators.

EIRFT-I: the web-based EIRFT-I gathers existing data for each at-risk youth identified as a result of the GLS Suicide Prevention Program (via a GLS-trained gatekeeper, a GLS-sponsored screening identification, or via a discharge from an emergency room or inpatient psychiatric treatment). Initial follow-up information (whether a service was received after referral or not) is obtained along with details on all services received in the 6 months following identification. Ensuring adequate resources and services for referral to care is a best practice for both screenings and gatekeeper trainings. In addition, a response system that ensures timely referrals is part of GLS grant requirements. Data can be extracted from case records or other existing data sources, including any organizational staff, community members, or family members who make a mental health identification and referral. Respondents include grant program staff and service providers representing all grantees in all funding years. Data collection is ongoing for each youth identified at risk, screened positive, or discharged from an emergency room or hospital for a suicide attempt and/or suicidal ideation. No personal identifiers are requested on the EIRFT-I. Grantee program staff enter EIRF-I data on an ongoing basis. EIRFT-I data will inform the Training Outcomes and Continuity of Care Studies. This instrument builds upon the previous EIRF-I, with the addition of data collection on follow-up post-discharge from emergency departments or psychiatric hospitalization and additional information on treatment.

EIRFT-S: the web-based EIRFT-S gathers aggregate information about all screening activities conducted as part of the GLS program. Data include aggregate information on the number of youths screened for suicide risk through the GLS program, and the number screening positive. On an ongoing basis, the grantee will submit EIRFT-S forms. EIRFT-S forms are completed once per implementation of a screening tool in a group setting, once per month for clinical screenings, and once per month for one-on-one screenings. For each screening event in which multiple youths are screened at a given time, one EIRFT-S should be completed for the event. For one-on-one screenings in a clinical or other setting, one aggregated EIRFT-S is completed per month to reflect screening outcomes of all youths screened during the month. Grantees develop systems locally to gather identification and referral data, including extracting data from existing electronic health records or forms. No personal identifiers are requested on the EIRFT-S. EIRFT-S data will inform the Continuity of Care Study. This instrument continues the previous EIRF-S.

Instrument Additions

Five instruments will augment the evaluation.

TSA-P: the Training Skills Assessment-Post Training (TSA-P) is a web-based survey to assess trainee confidence in identifying and managing youth at risk for suicide after participation in a training event. At the conclusion of all training events, trainees will be asked to complete the TSA-P. The instrument is designed to assess baseline confidence following the training, knowledge of suicide prevention, confidence in identifying and managing suicidal youth, and pretraining behaviors related to identifying and managing youths at risk of suicide. As part of the TSA-P, trainees will be asked to complete a consent-to-contact web form indicating their willingness to be contacted by the GLS Evaluation team to participate in the TSA-F and TSA-PS. If a trainer is unable to administer the survey or consent-to-contact form electronically, or a trainee does not have access to a mobile device or computer, they may also complete the survey and consent-to-contact form on paper. The grantee will submit this information to ICF, through direct data entry into the Suicide Prevention Data Center (SPDC), within 2 weeks of the training event. Once consent to contact has been received, ICF will create a random sample of participants for the phone simulation and the 6- and 12-month follow-up surveys. TSA-P data will inform the Training Outcomes Study.

TSA-F: The Training Skills Assessment-Follow up (TSA-F) is a follow-up web-based survey to assess trainees' sustained confidence and skills in identifying and managing youth at risk for suicide, as well as experience with managing at-risk youth since training (interventions with youths, additional training, etc.). The survey will be administered to a sample of training participants at 6- and 12-months after the initial TSA-P is completed. TSA-F data will inform the Training Outcomes Study.

TSA-PS: The Training Skills Assessment-Phone Simulation (TSA-PS) is a follow-up phone simulation using standardized interaction to assess trainee skills in identification and management of a youth in suicidal crisis. A random subsample of training participants will be contacted by the evaluation team to participate in a simulated conversation with a youth in suicidal crisis portrayed by a trained actor. These simulations will occur between 3 and 6 months following their initial training. The simulated conversation between the training participant and actor will last approximately 10 to 30 minutes (community gatekeeper sessions will likely be shorter than the clinician interactions). In total, the session will be scheduled for 45 minutes to allow for consent, instructions, and a debrief. These phone sessions will be administered via tele video and recorded for additional post-simulation scoring and analysis. All sessions will be attended by the training participant, an actor, and an evaluation team member (observer), who will be responsible for facilitating the interaction, administering the consent, scoring the interaction (both in real time and based on the recording), and providing a short debrief to the training participant. TSA-PS data will inform the Training Outcomes Study.

YORS: the Youth Outcomes and Resiliency Survey (YORS) is a web-based survey assessing the experience and outcomes of those youth who are served by the GLS Program. The instrument is designed to assess suicidality, positive youth development, satisfaction with services received, youth engagement experience, and family and school dynamics. Youth between the ages of 14-24 years who receive a positive screening result (as part of the GLS program activities) and receive a referral to a mental health service, or youths who attend skills-based training will be considered eligible for the study. A sample of eligible youth will be enrolled in the Youth Study. The age of the youth respondent will dictate how consent is obtained for the YORS. All youths under the age of 18 at selected grantee sites will be asked to have their parent complete consent-to-contact forms and participate in the YORS and Youth Experience Reflective (YER) Journal when they consent to receiving screening from the grantee. Youths over the age of 18 will be asked to complete consent-to-contact forms at the time of initial referral and screening (after gatekeeper identification). The YORS will be administered at 3-, 6-, and 12-months post enrollment, with enrollment occurring no later than 1 month following referral to a behavioral health service.

YER Journal: the YER Journal is a web-based survey consisting of a weekly journal prompt that youth can respond to with a photo and corresponding narrative interpretation of the photo. For example, youths may be asked to reflect on a recent experience receiving services. The youth would be asked to submit a photo that represents that experience, followed by a prompt that asks: “What words come to mind? How did it make you feel?” The narrative description of what the photo represents will be analyzed using qualitative methodologies. Up to 25 youths will be recruited to participate in the YER Journal each year. Youths participating in the YORS will be invited to join the YER Journal via contact through the YORS data collection activities. For example, a youth may complete their third quarterly YORS follow-up, and be invited to join the YER Journal study simultaneously. Our team will leverage innovative data collection technology to engage youth. Weekly prompts will be sent to youths for 6 weeks post enrollment to discover, for example, which components of what youths are receiving are meaningful and helpful, and how youths may be utilizing skills or services following the initial screening, both in the short and long terms.

The estimated response burden to collect this information associated with the redesigned GLS Evaluation is as follows annualized over the requested 3-year clearance period is presented below: ¹

¹ BLS OES May 2022 National Industry-Specific Occupation Employment and Wage Estimates average annual salary for Survey Researchers (code 19-3022); https://www.bls.gov/oes/current/naics5_541720.htm.

Total and Annualized Averages: Respondents, Responses and Hours
Type of respondent | Instrument | Number of respondents | Responses per respondent | Total number of responses | Burden per response (hours) | Annual burden (hours) | Hourly wage rate ($) | Total cost ($)
Project Evaluator | PSI | 31 | 4 | 124 | 1.25 | 155 | ¹ 37.11 | $5,752
Project Evaluator | TASP | 31 | 10 | 310 | 0.25 | 78 | 37.11 | 2,876
Project Evaluator | EIRFT-Individual Form | 31 | 4 | 124 | 2 | 248 | 37.11 | 9,203
Project Evaluator | EIRFT-Screening Form | 31 | 4 | 124 | 0.75 | 93 | 37.11 | 3,451
Provider Trainee | TSA Consent to Contact | 10,000 | 1 | 10,000 | 0.08 | 800 | $27.46 | 21,968
Provider Trainee | TSA-P | 10,000 | 1 | 10,000 | 0.3 | 3000 | 27.46 | 82,380
Provider Trainee | TSA 6-month | 187 | 1 | 187 | 0.3 | 56 | 27.46 | 1,541
Provider Trainee | TSA 12-month | 140 | 1 | 140 | 0.3 | 42 | 27.46 | 1,153
Provider Trainee | TSA-PS | 101 | 1 | 101 | 0.75 | 76 | 27.46 | 2,080
Youth | YORS baseline | 300 | 1 | 300 | 0.5 | 150 | 7.25 | 1,088
Youth | YORS 3-month | 240 | 1 | 240 | 0.5 | 120 | 7.25 | 870
Youth | YORS 6-month | 192 | 1 | 192 | 0.5 | 96 | 7.25 | 696
Youth | YORS 12-month | 115 | 1 | 115 | 0.5 | 58 | 7.25 | 417
Youth | YER Journal | 25 | 6 | 150 | 0.25 | 38 | 7.25 | 272
Total |  | 21,424 |  | 22,107 |  | 5,008 |  | 133,747
* Rounded to the nearest whole number.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-25922 Filed 11-22-23; 8:45 am]

BILLING CODE 4162-20-P